DEPARTMENT OF TRANSPORTATION

Federal Aviation Administration

14 CFR Part 39

[Docket No. FAA-2008-1155; Directorate Identifier 2008-NM-146-AD; Amendment 39-15866; AD 2009-07-07]

RIN 2120-AA64

Airworthiness Directives; McDonnell Douglas Model 717-200 Airplanes

AGENCY: Federal Aviation Administration (FAA), DOT.

ACTION: Final rule.

SUMMARY: We are adopting a new airworthiness directive (AD) for certain McDonnell Douglas Model 717-200 airplanes. This AD requires modifying the wire installation of the auxiliary hydraulic pump in the right wheel well of the main landing gear (MLG). This AD results from fuel system reviews conducted by the manufacturer. We are issuing this AD to prevent a tire burst when the MLG is in the retracted position from causing damage to the wire assembly of the auxiliary hydraulic pump and subsequent electrical arcing, creating the potential of an ignition source to the center wing tank, which, in combination with flammable fuel vapors, could result in a fuel tank explosion and consequent loss of the airplane.

DATES: This AD is effective May 5, 2009.

The Director of the Federal Register approved the incorporation by reference of a certain publication listed in the AD as of May 5, 2009.

ADDRESSES: For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com. The service information is also available at http://www.regulations.gov.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Discussion

We issued a notice of proposed rulemaking (NPRM) to amend 14 CFR part 39 to include an airworthiness directive (AD) that would apply to certain McDonnell Douglas Model 717-200 airplanes. That NPRM was published in the Federal Register on October 31, 2008 (73 FR 64892). That NPRM proposed to require modifying the wire installation of the auxiliary hydraulic pump in the right wheel well of the main landing gear.

Comments

We gave the public the opportunity to participate in developing this AD. We considered the comment received.

Request To Reduce Compliance Time

The Air Line Pilots Association, International (ALPA), asks that the compliance time for the modification in the NPRM be reduced. ALPA states that the 60-month compliance time is excessive given the potential consequences and adds that, since the wiring modification is estimated to take only 11 work hours per airplane, a shorter compliance time is recommended. ALPA suggests the compliance time be reduced to 24 months.

We do not agree to reduce the compliance time required by this AD. The compliance time was part of a Special Federal Aviation Regulation No. 88 (SFAR 88) safety analysis that consisted of a total package of mandated actions for each airplane model. The probability of failure and the burden on operators were considered when developing and applying consistent compliance times to all SFAR 88 rulemaking actions. In developing the 60-month compliance time for this AD action, we also considered not only the safety implications of the identified unsafe condition, but the average utilization rate of the affected fleet, and the practical aspects of an orderly modification of the fleet during regular maintenance periods. In addition, we considered the manufacturer's recommendation for an appropriate compliance time. After considering all the available information, we determined that performing the actions within 60 months represents an appropriate interval of time in which the required actions can be performed in a timely manner within the affected fleet, while still maintaining an adequate level of safety. In addition, operators can always comply with the required actions earlier than the compliance time in the AD. We have made no change to the AD in this regard.

Conclusion

We reviewed the relevant data, considered the comment received, and determined that air safety and the public interest require adopting the AD as proposed.

Costs of Compliance

We estimate that this AD affects 8 airplanes of U.S. registry. We also estimate that it takes 11 work-hours per product to comply with this AD. The average labor rate is $80 per work-hour. Required parts cost is minimal. Based on these figures, we estimate the cost of this AD to the U.S. operators to be $7,040, or $880 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-07-07 McDonnell Douglas: Amendment 39-15866. Docket No. FAA-2008-1155; Directorate Identifier 2008-NM-146-AD.

Effective Date

(a) This airworthiness directive (AD) is effective May 5, 2009.

Affected ADs

(b) None.

Applicability

(c) This AD applies to McDonnell Douglas Model 717-200 airplanes, certificated in any category; as identified in Boeing Alert Service Bulletin 717-29A0009, dated July 31, 2008.

Unsafe Condition

(d) This AD results from fuel system reviews conducted by the manufacturer. We are issuing this AD to prevent a tire burst when the main landing gear (MLG) is in the retracted position from causing damage to the wire assembly of the auxiliary hydraulic pump and subsequent electrical arcing, creating the potential of an ignition source to the center wing tank, which, in combination with flammable fuel vapors, could result in a fuel tank explosion and consequent loss of the airplane.

Compliance

(e) Comply with this AD within the compliance times specified, unless already done.

Installation/Re-Routing

(f) Within 60 months after the effective date of this AD: Modify the wire installation of the auxiliary hydraulic pump in the right wheel well of the MLG by doing all the applicable actions specified in the Accomplishment Instructions of Boeing Alert Service Bulletin 717-29A0009, dated July 31, 2008.

Alternative Methods of Compliance (AMOCs)

(g)(1) The Manager, Los Angeles Aircraft Certification Office, FAA, ATTN: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Alert Service Bulletin 717-29A0009, dated July 31, 2008, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, 3855 Lakewood Boulevard, MC D800-0019, Long Beach, California 90846-0001; telephone 206-544-5000, extension 2; fax 206-766-5683; e-mail dse.boecom@boeing.com; Internet https://www.myboeingfleet.com.

(3) You may review copies of the service information at the FAA, Transport Airplane Directorate, 1601 Lind Avenue SW., Renton, Washington. For information on the availability of this material at the FAA, call 425-227-1221 or 425-227-1152. The service information is also available at http://www.regulations.gov.

(4) You may also review copies of the service information that is incorporated by reference at the National Archives and Records Administration (NARA). For information on the availability of this material at NARA, call 202-741-6030, or go to: http://www.archives.gov/federal_register/code_of_federal_regulations/ibr_locations.html.

Issued in Renton, Washington, on March 17, 2009.
Ali Bahrami,
Manager, Transport Airplane Directorate, Aircraft Certification Service.

[FR Doc. E9-7001 Filed 3-30-09; 8:45 am]

BILLING CODE 4910-13-P